ENVIRONMENTAL PROTECTION AGENCY

40 CFR Parts 60 and 63

[EPA-HQ-OAR-2009-0234; EPA-HQ-OAR-2011-0044; FRL-9762-1]

RIN 2060-AR62

Reconsideration of Certain New Source and Startup/Shutdown Issues: National Emission Standards for Hazardous Air Pollutants From Coal- and Oil-Fired Electric Utility Steam Generating Units and Standards of Performance for Fossil-Fuel-Fired Electric Utility, Industrial-Commercial-Institutional, and Small Industrial-Commercial-Institutional Steam Generating Units

AGENCY: Environmental Protection Agency (EPA).

ACTION: Extension of public comment period.

SUMMARY: The EPA is announcing that the period for providing public comments on the November 30, 2012, proposed “Reconsideration of Certain New Source and Startup/Shutdown Issues: National Emission Standards for Hazardous Air Pollutants from Coal- and Oil-fired Electric Utility Steam Generating Units and Standards of Performance for Fossil-Fuel-Fired Electric Utility, Industrial-Commercial-Institutional, and Small Industrial-Commercial-Institutional Steam Generating Units” is being extended by 7 days.

DATES: The public comment period for the proposed rule published November 30, 2012 (77 FR 71323), is extended by 7 days to January 7, 2013.

ADDRESSES: Comments. Written comments on the proposed rule may be submitted to EPA electronically, by mail, by facsimile, or through hand delivery/courier. Please refer to the proposal for the addresses and detailed instructions.

Docket. Publicly available documents relevant to this action are available for public inspection either electronically in http://www.regulations.gov or in hard copy at the EPA Docket Center, Room 3334, 1301 Constitution Avenue NW., Washington, DC. The Public Reading Room is open from 8:30 a.m. to 4:30 p.m., Monday through Friday, excluding legal holidays. A reasonable fee may be charged for copying.

World wide Web. The EPA Web sites for this rulemaking are at: http://www.epa.gov/airquality/powerplanttoxics/actions.html or http://www.epa.gov/ttn/atw/utility/utilitypg.html.

FOR FURTHER INFORMATION CONTACT: For the national emission standards for hazardous air pollutants (NESHAP) action: Mr. William Maxwell, Energy Strategies Group, Sector Policies and Programs Division (D243-01), Office of Air Quality Planning and Standards, U.S. Environmental Protection Agency, Research Triangle Park, North Carolina 27711; Telephone number: (919) 541-5430; Fax number: (919) 541-5450; Email address: maxwell.bill@epa.gov. For the new source performance standard (NSPS) action: Mr. Christian Fellner, Energy Strategies Group, Sector Policies and Programs Division, (D243-01), Office of Air Quality Planning and Standards, U.S. Environmental Protection Agency, Research Triangle Park, North Carolina 27711; Telephone number: (919) 541-4003; Fax number (919) 541-5450; Email address: fellner.christian@epa.gov.

SUPPLEMENTARY INFORMATION:

Comment Period

The Office of the Federal Register inadvertently published the November 30, 2012, proposed “Reconsideration of Certain New Source and Startup/Shutdown Issues: National Emission Standards for Hazardous Air Pollutants from Coal- and Oil-fired Electric Utility Steam Generating Units and Standards of Performance for Fossil-Fuel-Fired Electric Utility, Industrial-Commercial-Institutional, and Small Industrial-Commercial-Institutional Steam Generating Units” in the “Rules and Regulations” section of the Federal Register, rather than in the “Proposed Rules” section. The Office of Federal Register issued a correction document on December 5, 2012 (77 FR 72294). The EPA has decided to extend the public comment period by an additional 7 days in light of the clerical error. Therefore, the public comment period will end on January 7, 2013, rather than on December 31, 2012.

How can I get copies of this document and other related information?

The EPA has established the official public dockets No. EPA-HQ-OAR-2011-0044 (NSPS action) and No. EPA-HQ-OAR-2009-0234 (NESHAP action). The EPA has also developed Web sites for this proposed rulemaking at the addresses given above.

Dated: December 6, 2012.
Gina McCarthy,
Assistant Administrator for Air and Radiation.

[FR Doc. 2012-29973 Filed 12-11-12; 8:45 am]

BILLING CODE 6560-50-P